DEPARTMENT OF ENERGY

Federal Energy Regulatory Commission

[Docket No. CP01-415-016 and RP04-398-000]

East Tennessee Natural Gas Company; Notice of Initiation of Proceeding

August 6, 2004.

On August 4, 2004, the Commission issued an order initiating a proceeding in Docket No. RP04-398-000 under section 5 of the Natural Gas Act, 15 U.S.C. 717d (2000). The Commission's order directed East Tennessee Natural Gas Company (East Tennessee) to submit a filing within 30 days of the issuance date of the order to either (a) show that all services over the Rocky Top, Gateway and Murray Projects cause East Tennessee to incur no gas losses; or (b) make an alternative proposal for assessing lost-and-unaccounted-for gas charges for these expansion projects. The Commission will issue a notice pertaining to East Tennessee's filing and persons having an interest in the proceeding will be allowed to intervene, in accordance with the Commission's regulations.

Magalie R. Salas,
Secretary.

[FR Doc. E4-1794 Filed 8-11-04; 8:45 am]

BILLING CODE 6717-01-P